FEDERAL COMMUNICATIONS COMMISSION

47 CFR Part 54

[FCC 02-10]

Establishment of the Media Bureau, the Wireline Competition Bureau and the Consumer and Governmental Affairs Bureau; Reorganization of the International Bureau, and Other Organizational Changes

AGENCY: Federal Communications Commission.

ACTION: Correcting amendments.

SUMMARY: This document contains a correction to the final regulation Part 54, which was published in the Federal Register on Thursday, March 21, 2002, (67 FR 13216). This document will correct two words in § 54.709(a)(3) of the Commission rules. The regulation relates to the computations of required contributions to universal service support mechanisms in § 54.709(a)(3).

DATES: Effective June 30, 2003.

FOR FURTHER INFORMATION CONTACT: Diane Law Hsu, Deputy Chief, Wireline Competition Bureau, Telecommunications Access Policy Division, (202) 418-7400.

SUPPLEMENTARY INFORMATION:

Background

Part 54 rules are issued pursuant to the Communications Act of 1934, as amended. The purpose of the part 54 rules is to implement section 254 of the Communications Act of 1934, as amended, 47 U.S.C. 254. The final regulation that is subject to the correction deals with § 54.709 and how carriers are to compute their required contributions to the universal service support mechanism.

Need for Correction

As published, the final regulation contains an error which needs to be corrected.

List of Subjects in 47 CFR part 54

Reporting and recordkeeping requirements, Telecommunications, Telephone.

Accordingly, 47 CFR part 54 is corrected by making the following correcting amendments:

PART 54—UNIVERSAL SERVICE

1. The authority citation for part 54 continues to read as follows:

Authority: 47 U.S.C. 1, 4(i), 201, 205, 214, and 254 unless otherwise noted.

2. Revise paragraph (a)(3) of § 54.303 to read as follows:

§ 54.709 Computations of required contributions to universal service support mechanisms.

(a) * * *

(1) * * *

(2) * * *

(3) Total projected expenses for the federal universal service support mechanisms for each quarter must be approved by the Commission before they are used to calculate the quarterly contribution factor and individual contributions. For each quarter, the Administrator must submit its projections of demand for the federal universal service support mechanisms for high-cost areas, low-income consumers, schools and libraries, and rural health care providers, respectively, and the basis for those projections, to the Commission and the Wireline Competition Bureau at least sixty (60) calendar days prior to the start of that quarter. For each quarter, the Administrator must submit its projections of administrative expenses for the high-cost mechanism, the low-income mechanism, the schools and libraries mechanism and the rural health care mechanism and the basis for those projections to the Commission and the Wireline Competition Bureau at least sixty (60) calendar days prior to the start of that quarter. Based on data submitted to the Administrator on the Telecommunications Reporting Worksheets, the Administrator must submit the total contribution base to the Wireline Competition Bureau at least thirty (30) days before the start of each quarter. The projections of demand and administrative expenses and the contribution factor shall be announced by the Commission in a public notice and shall be made available on the Commission's website. The Commission reserves the right to set projections of demand and administrative expenses at amounts that the Commission determines will serve the public interest at any time within the fourteen-day period following release of the Commission's public notice. If the Commission take no action within fourteen (14) days of the date of release of the public notice announcing the projections of demand and administrative expenses, the projections of demand and administrative expenses, and the contribution factor shall be deemed approved by the Commission. Except as provided in § 54.706(c), the Administrator shall apply the quarterly contribution factor, once approved by the Commission, to contributor's interstate and international end-user telecommunications revenues to calculate the amount of individual contributions.

* * * * *

Federal Communications Commission.
Marlene H. Dortch,
Secretary.

[FR Doc. 03-16487 Filed 6-27-03; 8:45 am]

BILLING CODE 6712-01-P